FEDERAL RESERVE SYSTEM

Agency Information Collection Activities: Proposed Collection; Comment Request

AGENCY: Board of Governors of the Federal Reserve System.

SUMMARY:

Background

On June 15, 1984, the Office of Management and Budget (OMB) delegated to the Board of Governors of the Federal Reserve System (Board) its approval authority under the Paperwork Reduction Act, as per 5 CFR 1320.16, to approve of and assign OMB control numbers to collection of information requests and requirements conducted or sponsored by the Board under conditions set forth in 5 CFR 1320 Appendix A.1. Board-approved collections of information are incorporated into the official OMB inventory of currently approved collections of information. Copies of the OMB 83-Is and supporting statements and approved collection of information instruments are placed into OMB's public docket files. The Federal Reserve may not conduct or sponsor, and the respondent is not required to respond to, an information collection that has been extended, revised, or implemented on or after October 1, 1995, unless it displays a currently valid OMB control number.

Request for Comment on Information Collection Proposal

The following information collections, which are being handled under this delegated authority, have received initial Board approval and are hereby published for comment. At the end of the comment period, the proposed information collections, along with an analysis of comments and recommendations received, will be submitted to the Board for final approval under OMB delegated authority. Comments are invited on the following:

a. Whether the proposed collection of information is necessary for the proper performance of the Federal Reserve's functions; including whether the information has practical utility;

b. The accuracy of the Federal Reserve's estimate of the burden of the proposed information collection, including the validity of the methodology and assumptions used;

c. Ways to enhance the quality, utility, and clarity of the information to be collected; and

d. Ways to minimize the burden of information collection on respondents, including through the use of automated collection techniques or other forms of information technology.

DATES: Comments must be submitted on or before June 19, 2001.

ADDRESSES: Comments, which should refer to the OMB control number or agency form number, should be addressed to Jennifer J. Johnson, Secretary, Board of Governors of the Federal Reserve System, 20th and C Streets, NW., Washington, DC 20551, or mailed electronically to regs.comments@federalreserve.gov. Comments addressed to Ms. Johnson may be delivered to the Board's mailroom between 8:45 a.m. and 5:15 p.m., and to the security control room outside of those hours. Both the mailroom and the security control room are accessible from the courtyard entrance on 20th Street between Constitution Avenue and C Street, NW. Comments received may be inspected in room M-P-500 between 9 a.m. and 5 p.m., except as provided in section 261.14 of the Board's Rules Regarding Availability of Information, 12 CFR 261.14(a).

A copy of the comments may also be submitted to the OMB desk officer for the Board: Alexander T. Hunt, Office of Information and Regulatory Affairs, Office of Management and Budget, New Executive Office Building, Room 3208, Washington, DC 20503.

FOR FURTHER INFORMATION CONTACT: A copy of the proposed form and instructions, the Paperwork Reduction Act Submission (OMB 83-I), supporting statement, and other documents that will be placed into OMB's public docket files once approved may be requested from the agency clearance officer, whose name appears below. Mary M. West, Federal Reserve Board Clearance Officer (202-452-3829), Division of Research and Statistics, Board of Governors of the Federal Reserve System, Washington, DC 20551. Telecommunications Device for the Deaf (TDD) users may contact Capria Mitchell (202) 872-4984, Board of Governors of the Federal Reserve System, Washington, DC 20551.

Proposal To Approve Under OMB Delegated Authority the Extension for Three Years, With Revision, of the Following Reports

1. Report title: The Condition Reports for Foreign Subsidiaries of U.S. Banking Organizations.

Agency form number: FR 2314 a, b, and c.

OMB control number: 7100-0073.

Frequency: Quarterly and annually.

Reporters: Foreign subsidiaries of U.S. state member banks, bank holding companies, and Edge or agreement corporations.

Annual reporting hours: 8,222 hours.

Estimated average hours per response: 1.5 to 10.5 hours.

Number of respondents: 1,665.

Small businesses are not affected.

General description of report: This information collection is mandatory (12 U.S.C. 324, 602, 625, and 1844(c)) data are exempt from disclosure pursuant to Sections (b)(4) and (b)(8) of the Freedom of Information Act (5 U.S.C. 552(b)(4) and (8)).

Abstract: The FR 2314 reports are mandatory and most are collected annually as of December 31 from foreign subsidiaries of U.S. state member banks, bank holding companies, and Edge or agreement corporations. For subsidiaries with significant asset size or volume of off-balance-sheet activity the FR 2314a is collected quarterly instead of annually. The information collected in these reports is essentially the equivalent to the information reported on the Consolidated Reports of Condition and Income that commercial banks file. The FR 2314 is a set of three graduated reports. The FR 2314a collects balance sheet information with accompanying memorandum items and twelve supporting schedules. The FR 2314b collects balance sheet information and only two supporting schedules. The FR 2314c is a one-page report that collects information on total assets, equity capital, net income, and off-balance-sheet items.

Current Actions: The Federal Reserve proposes to make applicable revisions to the FR 2314 as of June 30, 2001, consistent to the changes, eliminations and reductions in detail to the Consolidated Reports of Condition and Income (Call Report) (new FFIEC 031; OMB No. 7100-0036) effective March 31, 2001.

2. Report title: The Consolidated Report of Condition and Income for Edge and Agreement Corporations.

Agency form number: FR 2886b.

OMB control number: 7100-0086.

Frequency: Quarterly.

Reporters: Banking Edge corporations and investment (nonbanking) Edge corporations.

Annual reporting hours: 3,566 hours.

Estimated average hours per response: 14.7 hours, banking corporations, 8.5 hours, investment corporations.

Number of respondents: 30 banking corporations; 53 investment corporations.

Small businesses are not affected.

General description of report: This information collection is mandatory (12 U.S.C. 602 and 625) and is given confidential treatment (5 U.S.C. 552(b)(4)).

Abstract: This report is filed quarterly by banking Edge corporations and investment (nonbanking) Edge corporations. This report comprises a balance sheet, income statement, and ten supporting schedules, and it parallels the Consolidated Reports of Condition and Income that commercial banks file. Except for examination reports, it provides the only financial data available for these corporations. The Federal Reserve uses the data collected on the FR 2886b to supervise Edge corporations, identify present and potential problems, and monitor and develop a better understanding of activities within the industry. Most Edge corporations are wholly owned by U.S. banks and are consolidated into the financial statements of their parent organizations.

Current Actions: The Federal Reserve proposes to make applicable revisions to the FR 2886b as of June 30, 2001, consistent to the changes, eliminations and reductions in detail to the Reports of Condition and Income (Call Report) (new FFIEC 031; OMB No. 7100-0036) effective March 31, 2001.

Request for specific comment on the following: The Federal Reserve proposes to eliminate the confidential treatment for the following portions of this report: for respondents engaged in banking, Schedule G—Income and Expenses, Schedule H—Changes in Capital and Reserve Accounts, and items 1, 4 and memorandum item 1 of Schedule F—Past Due and Nonaccrual Loans, Leases, and Other Assets, for items past due 30 to 89 days, total past due and nonaccrual, and restructured; for respondents not engaged in banking, Schedule RC—Balance Sheet, Schedule G—Income and Expenses, Schedule H—Changes in Capital and Reserve Accounts, items 1, 4 and memorandum item 1 of Schedule F—Past Due and Nonaccrual Loans, Leases, and Other Assets, for items past due 30 to 89 days, total past due and nonaccrual, and restructured, and Schedule K—Off-Balance-Sheet Items, beginning with amounts reported as of June 30, 2001. Thus the Federal Reserve proposes that for banking Edge corporations, only information collected on Schedule E—Claims on and Liabilities to Related Organizations and Schedule L—Branch Schedule of Selected Items, Non-Consolidated, would continue to be regarded as confidential. For respondents not engaged in banking, only information collected on Schedule E would continue to be regarded as confidential.

An important public policy issue for the Federal Reserve has been how to use market discipline to complement supervisory resources. Market discipline relies on market participants having information about the risks and financial condition of banking-related organizations. Disclosure that increases transparency should lead to more accurate market assessments of risk and value. This, in turn, should result in more effective market discipline on respondents.

The proposed disclosure of information previously held as confidential is consistent with the existing or proposed treatment afforded to similar information collected on the commercial bank Call Report. Retaining the confidentiality status for Schedule E and Schedule L is consistent to the existing treatment afforded to similar information collected on the Report of Assets and Liabilities of U.S. Branches and Agencies of Foreign Banks (FFIEC 002), and the Foreign Branch Report of Condition (FFIEC 030).

Board of Governors of the Federal Reserve System, April 16, 2001.
Jennifer J. Johnson,
Secretary of the Board.

[FR Doc. 01-9799 Filed 4-19-01; 8:45 am]

BILLING CODE 6210-01-P